DEPARTMENT OF AGRICULTURE

Forest Service

Information Collection; Urgent Removal of Timber

AGENCY: Forest Service, USDA.

ACTION: Notice; request for comment.

SUMMARY: In accordance with the Paperwork Reduction Act of 1995, the Forest Service is seeking comments from all interested individuals and organizations on the extension of a currently approved information collection, Urgent Removal of Timber.

DATES: Comments must be received in writing on or before May 26, 2009 to be assured of consideration. Comments received after that date will be considered to the extent practicable.

ADDRESSES: Comments concerning this notice should be addressed to Director, Forest Management, 1400 Independence Avenue, SW., Mailstop 1103, Washington, DC 20250-1103.

Comments also may be submitted via facsimile to 202-205-1045 or by e-mail to: urgentremoval@fs.fed.us.

The public may inspect comments received at the Office of the Director, Forest Management, Third Floor, Southwest Wing, Yates Building, 201 14th Street, SW., Washington, DC during normal business hours. Visitors are encouraged to call ahead to 202-205-1496 to facilitate entry to the building.

FOR FURTHER INFORMATION CONTACT: Lathrop Smith, Forest Management staff, at 202-205-0858. Individuals who use telecommunication devices for the deaf (TDD) may call the Federal Relay Service (FRS) at 1-800-877-8339 twenty-four hours a day, every day of the year, including holidays.

SUPPLEMENTARY INFORMATION: Title: Urgent Removal of Timber.

OMB Number: 0596-0167.

Expiration Date of Approval: July 31, 2009.

Type of Request: Extension with no revision.

Abstract: Regulations at 36 CFR 223.53 allow timber sale purchasers to ask for extensions of certain National Forest timber sale contracts when the manufacturing facilities or logging equipment capacity available to purchasers are insufficient to provide for both the rapid harvest of damaged non-National Forest System (NFS) timber in need of expeditious removal and the continued harvest of undamaged (green) timber under contract with the Forest Service. When requesting an urgent removal extension, purchasers are required to provide documentation supporting the need. The collected information is necessary for the contracting officer to make a determination as to whether the purchaser meets the conditions for receiving an urgent removal extension on one or more NFS timber sale contracts.

The intent of this information collection is to assure that provisions of timber sale contracts allowing extensions of time for harvest of NFS timber are consistent with the requirements of the National Forest Management Act (16 U.S.C. 472a), while:

• Minimizing loss of NFS timber adjacent to other timber infested with insects and disease or damaged by fire;

• Reduce the threat to public safety and property resulting from such catastrophic events; and

• Promote the wise use and conservation of natural resources.

The National Forest Management Act requires that extensions of contract time shall not be granted unless “the purchaser has diligently performed in accordance with an approved plan of operation or that the substantial overriding public interest justifies the extension.” Regulations at 36 CFR 223.115 mirror the National Forest Management Act.

Regulations at 36 CFR 223.53(b) required the Regional Forester to verify in writing that: (1) A specific catastrophe occurred for which urgent removal extensions should be granted; and (2) Failure to harvest the damaged non-NFS timber promptly could result in the following: (i) Pose a threat to public safety, (ii) Create a threat of an insect or disease epidemic to NFS or other lands or resources, or (iii) Significant private or other public resource loss.

Following such a determination, to obtain an urgent removal extension on a NFS timber sale contract, a purchaser must make a written request to the contracting officer and include the following:

• An explanation of why the harvest of undamaged (green) NFS timber within the term of the existing NFS contract(s) will prevent or otherwise impede the removal of damaged non-NFS timber in need of expeditious removal; and

• Documentation that the manufacturing facilities or logging equipment capacity available to the purchaser would be insufficient to provide for both the rapid salvage of damaged non-NFS timber in need of expeditious removal and continued harvest of undamaged (green) NFS timber under contract with the Forest Service.

The information is submitted by the purchaser in writing to the Forest Service contracting officer, who then verifies the legitimate need for the request of an urgent removal extension(s) in accordance with regulations at 36 CFR 223.53.

No form is designated for the collection of this information. The information is collected in hard copy or by facsimile. Each request for an urgent removal extension is based upon a unique set of circumstances, no two requests are alike. There is no duplication of information and the information is only available from the timber sale purchaser. The Forest Service collects only the minimum amount of information necessary for the contracting officer to make a determination. Without the information, and the frequency at which it is collected, the Forest Service cannot assure that the statutory requirements of the National Forest Management Act are met.

Estimate of Annual Burden: 6 hours.

Type of Respondents: Timber sale contractors (individuals, for-profit businesses, and non-profit entities).

Estimated Annual Number of Respondents: 25.

Estimated Annual Number of Responses per Respondent: 1.

Estimated Total Annual Burden on Respondents: 150 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: March 18, 2009.
Richard W. Sowa,
Acting Associate Deputy Chief, National Forest System.

[FR Doc. E9-6388 Filed 3-23-09; 8:45 am]

BILLING CODE 3410-11-P